DEPARTMENT OF AGRICULTURE

Animal and Plant Health Inspection Service

9 CFR Part 94

[Docket No. 02-089-1]

Change in Disease Status of Denmark Because of Exotic Newcastle Disease

AGENCY: Animal and Plant Health Inspection Service, USDA.

ACTION: Interim rule and request for comments.

SUMMARY: We are amending the regulations by removing Denmark from the list of regions considered free of exotic Newcastle disease. We are taking this action because Denmark has confirmed an outbreak of exotic Newcastle disease. This action restricts the importation of poultry carcasses, parts or products of poultry carcasses, and eggs (other than hatching eggs) of poultry, game birds, or other birds from Denmark. This action is necessary to help prevent the introduction of exotic Newcastle disease into the United States.

DATES: This rule is effective retroactively to July 16, 2002. We will consider all comments that we receive on or before November 19, 2002.

ADDRESSES: You may submit comments by postal mail/commercial delivery or by e-mail. If you use postal mail/commercial delivery, please send four copies of your comment (an original and three copies) to: Docket No. 02-089-1, Regulatory Analysis and Development, PPD, APHIS, Station 3C71, 4700 River Road Unit 118, Riverdale, MD 20737-1238. Please state that your comment refers to Docket No. 02-089-1. If you use e-mail, address your comment to regulations@aphis.usda.gov. Your comment must be contained in the body of your message; do not send attached files. Please include your name and address in your message and “Docket No. 02-089-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Gary Colgrove, Chief Staff Veterinarian, Sanitary Trade Issues Team, National Center for Import and Export, VS, APHIS, 4700 River Road Unit 38, Riverdale, MD 20737-1231; (301) 734-4356.

SUPPLEMENTARY INFORMATION:

Background

The regulations in 9 CFR part 94 (referred to below as the regulations) govern the importation of specified animals and animal products into the United States in order to prevent the introduction of various animal diseases. The regulations in § 94.6 govern, among other things, the importation of poultry carcasses, parts or products of poultry carcasses, and eggs (other than hatching eggs) of poultry, game birds, or other birds from regions where exotic Newcastle disease (END) is considered to exist. END is considered to exist in all regions not listed in § 94.6(a)(2).

END is a contagious and fatal viral disease affecting all species of birds. Previously known as velogenic viscerotropic Newcastle disease, END is considered one of the most infectious diseases of poultry in the world. The disease is so virulent that some birds die without exhibiting any symptoms, and a death rate of nearly 100 percent can occur in unvaccinated flocks. END can also infect and kill vaccinated poultry.

The disease is spread primarily through direct contact between healthy birds and the bodily discharges, including droppings and secretions from the nose, mouth, and eyes of infected birds. END incubation ranges from 2 to 15 days, and infected birds may present a variety of respiratory and digestive symptoms before they die. Egg production may decrease or cease entirely.

Under § 94.6, poultry carcasses, and parts and products of poultry carcasses may be imported into the United States from regions where END exists only if they have been cooked or are consigned directly to an approved establishment in the United States. Eggs (other than hatching eggs) of poultry, game birds, or other birds from regions where END exists may be imported into the United States only if: (1) They are accompanied by a health certificate regarding the flock of origin and meet certain other conditions; (2) they are consigned directly to an approved establishment for breaking and pasteurization; (3) they are imported under permit for scientific, educational, or research purposes; or (4) they are imported under permit and have been cooked or processed and will be handled in a manner that prevents the introduction of END into the United States.

Further, poultry carcasses, parts or products of poultry carcasses, and eggs (other than hatching eggs) of poultry, game birds, or other birds that do not qualify for entry into the United States under one of these conditions may transit the United States via air and sea ports under the conditions set out in § 94.15(d).

On July 16, 2002, Denmark reported a confirmed case of END to the Office International des Epizooties. Therefore, in order to prevent the introduction of END into the United States, we are amending § 94.6(a)(2) by removing Denmark from the list of regions considered to be free of END. This action restricts the importation of poultry carcasses, parts or products of poultry carcasses, and eggs (other than hatching eggs) of poultry, game birds, or other birds from Denmark. We are making this amendment effective retroactively to July 16, 2002, which is the date that END was confirmed in that region.

Although we are removing Denmark from the list of regions considered free of END, we recognize that Denmark immediately responded to the outbreak of END by imposing restrictions on the movement of poultry and poultry products within its borders and initiating measures to eradicate the disease. At this time, it appears that the outbreak is well-controlled. Considering Denmark's efficient response to the outbreak, we intend to reassess their END status at a future date. During the reassessment, we will consider all comments we receive on this interim rule, and the future assessment will determine whether it is necessary to continue to restrict the importation of poultry and poultry products from Denmark, whether we can restore Denmark to the list of regions considered free of END, or whether we can restore portions of Denmark as free of END.

Emergency Action

This rulemaking is necessary on an emergency basis to prevent the introduction of END into the United States. Under these circumstances, the Administrator has determined that prior notice and opportunity for public comment are contrary to the public interest and that there is good cause under 5 U.S.C. 553 for making this rule effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This rule has been reviewed under Executive Order 12866. For this action, the Office of Management and Budget has waived its review under Executive Order 12866.

We are amending the regulations by removing Denmark from the list of regions considered free of END. We are taking this action because Denmark has confirmed an outbreak of END. This action restricts the importation of poultry carcasses, parts or products of poultry carcasses, and eggs (other than hatching eggs) of poultry, game birds, or other birds from Denmark. This action is necessary to help prevent the introduction of END into the United States.

The Regulatory Flexibility Act requires that agencies consider the economic effects of their rules on small entities. Given that the U.S. does not currently import any poultry or poultry products from Denmark, we anticipate no U.S. entities, large or small, will experience any economic effects as a result of this rule.

Under these circumstances, the Administrator of the Animal and Plant Health Inspection and Service has determined that this action will not have a significant economic impact on a substantial number of small entities.

Executive Order 12988

This rule has been reviewed under Executive Order 12988, Civil Justice Reform. This rule: (1) Preempts all State and local laws and regulations that are inconsistent with this rule; (2) has retroactive effect to July 16, 2002; and (3) does not require administrative proceedings before parties may file suit in court challenging this rule.

Paperwork Reduction Act

This interim rule contains no information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 continues to read as follows:

Authority: 7 U.S.C. 450, 7711-7714, 7751, 7754, 8303, 8306, 8308, 8310, 8311, and 8315; 21 U.S.C. 136 and 136a; 31 U.S.C. 9701; 42 U.S.C. 4331 and 4332; 7 CFR 2.22, 2.80, and 371.4.

§ 94.6 [Amended]

2. In § 94.6, paragraph (a)(2) is amended by removing the word “Denmark,”.

Done in Washington, DC, this 16th day of September, 2002 .
Peter Fernandez,
Acting Administrator, Animal and Plant Health Inspection Service.

[FR Doc. 02-23940 Filed 9-19-02; 8:45 am]

BILLING CODE 3410-34-P